ENVIRONMENTAL PROTECTION AGENCY

[FRL-9989-25-Region 6]

Notice of Proposed Administrative Settlement Agreement and Order on Consent for Share of Reimbursement for Removal Action for the CES Environmental Services, Inc. Site, Houston, Texas

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), has entered into a proposed settlement, embodied in an Administrative Settlement Agreement and Order on Consent for Removal Action (“Settlement Agreement”), with 144 separate parties (see list below). Under the Settlement Agreement, the settling parties will pay EPA $4,577,099.64. The settling parties are paying their share of the costs incurred for a removal action and cleanup involving the removal of waste tanks, containers, totes, etc. and associated chemicals and contaminated soil from an abandoned chemical facility located in Houston, Texas. Total costs of the removal action were approximately $4.6 million.

For thirty (30) days beginning from the date of publication of this notice, the Agency will receive written comments relating to this notice and will receive written comments relating to the settlement. The Agency will consider all comments received and may modify or withdraw its consent to the settlement if comments received disclose facts or considerations which indicate that the settlement is inappropriate, improper or inadequate. The Agency's response to any comments received will be available for public inspection at 1445 Ross Avenue, Dallas, Texas 75202-2733.

DATES: Comments must be submitted on or before March 13, 2019.

ADDRESSES: The Settlement Agreement is available for public inspection at 1445 Ross Avenue, Dallas, Texas 75202-2733 or by calling 214-665-6529. Comments should reference the CES Environmental Services, Inc. Superfund Site, located in the city of Houston, Harris County, Texas and be addressed to David Eppler, Enforcement Officer, Superfund Division (6SF-TE), U.S. Environmental Protection Agency, 1445 Ross Avenue, Dallas, Texas 75202-2733; or Email: eppler.david@epa.gov; and should reference EPA CERCLA Docket Number 06-03-18. EPA's response to any comments received will be available for public inspection at the same address.

FOR FURTHER INFORMATION CONTACT: Amy Salinas, Assistant Regional Counsel, 1445 Ross Avenue, Dallas, Texas 75202-2733; or call (214) 665-8063.

Dated: December 20, 2018.
Anne L. Idsal,
Regional Administrator (6RA).

[FR Doc. 2019-01917 Filed 2-8-19; 8:45 am]

BILLING CODE 6560-50-P